DEPARTMENT OF TRANSPORTATION

Federal Aviation Administration

14 CFR Part 39

[Docket No. FAA-2017-0533; Product Identifier 2016-NM-156-AD; Amendment 39-19024; AD 2017-18-15]

RIN 2120-AA64

Airworthiness Directives; Airbus Airplanes

AGENCY: Federal Aviation Administration (FAA), Department of Transportation (DOT).

ACTION: Final rule.

SUMMARY: We are adopting a new airworthiness directive (AD) for all Airbus Model A300 B4-600R and Model A300 F4-600R series airplanes; Model A300 B4-603, B4-622, and C4-605R Variant F airplanes; and Model A310-203, -221, -222, -304, -322, -324, and -325 airplanes. This AD was prompted by an evaluation by the design approval holder indicating that a section of the fuselage structure above the forward cargo door is subject to widespread fatigue damage (WFD). This AD requires an inspection for cracks of the fastener and tooling holes at certain locations and a check of the diameter of the holes, and repair or modification of the affected fuselage structure if necessary. We are issuing this AD to address the unsafe condition on these products.

DATES: This AD is effective October 19, 2017.

The Director of the Federal Register approved the incorporation by reference of certain publications listed in this AD as of October 19, 2017.

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Standards Branch, 1601 Lind Avenue SW., Renton, WA. For information on the availability of this material at the FAA, call 425-227-1221. It is also available on the Internet at http://www.regulations.gov by searching for and locating Docket No. FAA-2017-0533.

Examining the AD Docket

You may examine the AD docket on the Internet at http://www.regulations.gov by searching for and locating Docket No. FAA-2017-0533; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Section, Transport Standards Branch, FAA, 1601 Lind Avenue SW., Renton, WA 98057-3356; telephone 425-227-2125; fax 425-227-1149.

SUPPLEMENTARY INFORMATION:

Discussion

We issued a notice of proposed rulemaking (NPRM) to amend 14 CFR part 39 by adding an AD that would apply to all Airbus Model A300 B4-600R and Model A300 F4-600R series airplanes; Model A300 B4-603, B4-622, and C4-605R Variant F airplanes; and Model A310-203, -221, -222, -304, -322, -324, and -325 airplanes. The NPRM published in the Federal Register on June 12, 2017 (82 FR 26874) (“the NPRM”). The NPRM was prompted by an evaluation by the design approval holder indicating that a section of the fuselage structure above the forward cargo door is subject to WFD. The NPRM proposed to require an inspection for cracks of the fastener and tooling holes at certain locations and a check of the diameter of the holes, and repair or modification of the affected fuselage structure if necessary. We are issuing this AD to prevent reduced structural integrity of these airplanes due to the failure of certain structural components.

The European Aviation Safety Agency (EASA), which is the Technical Agent for the Member States of the European Union, has issued EASA Airworthiness Directive 2016-0178, dated September 12, 2016 (referred to after this as the Mandatory Continuing Airworthiness Information, or “the MCAI”), to correct an unsafe condition for all Airbus Model A300 B4-600R and Model A300 F4-600R series airplanes; Model A300 B4-603, B4-622, and C4-605R Variant F airplanes; and Model A310-203, -221, -222, -304, -322, -324, and -325 airplanes. The MCAI states:

In the frame of the Widespread Fatigue Damage (WFD) analysis, some structural areas were identified as requiring embodiment of a structural modification.

This condition, if not corrected, could reduce the fuselage structural integrity.

To address this unsafe condition, Airbus issued Service Bulletin (SB) A310-53-2145 and SB A300-53-6187 to provide instructions for structural reinforcement of the fuselage frames (FR) between FR20 Right Hand side (RH) and FR25 RH and the frame couplings between stringer (STGR) 20 RH and STGR23 RH, hereafter collectively referred to as `the affected fuselage structure' in this [EASA] AD.

For the reason described above, this [EASA] AD requires accomplishment of a one-time special detailed inspection (SDI) of the fastener and tooling holes, and modification of the affected fuselage structure.

The required actions include a rototest inspection for cracks of the fastener and tooling holes at certain locations and a check of the diameter of the holes, and repair or modification of the affected fuselage structure if necessary. You may examine the MCAI in the AD docket on the Internet at http://www.regulations.gov by searching for and locating Docket No. FAA-2017-0533.

Comments

We gave the public the opportunity to participate in developing this AD. We considered the comment received. The commenter supported the NPRM.

Conclusion

We reviewed the relevant data, considered the comment received, and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Airbus has issued the following service information.

• Airbus Service Bulletin A300-53-6187, Revision 00, dated May 31, 2016. This service information describes procedures for a rototest inspection for cracks of the fastener and tooling holes at certain locations, a check of the diameter of the holes, repair, and modification of the affected fuselage structure by reinforcing the frames between right hand (RH) frame (FR) 20 RH and FR25 RH, or FR21 RH and FR25 RH, depending on the configuration; and reinforcing the frame couplings between stringer (STGR) 20 RH and STGR23 RH.

• Airbus Service Bulletin A310-53-2145, Revision 00, dated May 31, 2016. This service information describes procedures for a rototest inspection for cracks of the fastener and tooling holes at certain locations, a check of the diameter of the holes, repair, and modification of the affected fuselage structure by reinforcing the frames between right hand FR20 RH and FR25 RH; and reinforcing the frame couplings between STGR20 RH and STGR23 RH.

This service information is reasonably available because the interested parties have access to it through their normal course of business or by the means identified in the ADDRESSES section.

Costs of Compliance

We estimate that this AD affects 132 airplanes of U.S. registry.

We estimate the following costs to comply with this AD:

Estimated Costs
Action | Labor cost | Parts cost | Cost per product | Cost on U.S. operators
Inspection, check, repair, and modification | 45 work-hours × $85 per hour = $3,825 | $2,360 | $6,185 | $816,420

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-18-15 Airbus: Amendment 39-18024; Docket No. FAA-2017-0533; Product Identifier 2016-NM-156-AD.

(a) Effective Date

This AD is effective October 19, 2017.

(b) Affected ADs

None.

(c) Applicability

This AD applies to Airbus airplanes identified in paragraphs (c)(1) through (c)(5) of this AD, certificated in any category, all manufacturer serial numbers.

(1) Model A300 B4-603 and A300 B4-622 airplanes.

(2) Model A300 B4-605R and A300 B4-622R airplanes.

(3) Model A300 F4-605R and A300 F4-622R airplanes.

(4) Model A300 C4-605R Variant F airplanes.

(5) Model A310-203, -221, -222, -304, -322, -324, and -325 airplanes.

(d) Subject

Air Transport Association (ATA) of America Code 53, Fuselage.

(e) Reason

This AD was prompted by an evaluation by the design approval holder indicating that a section of the fuselage structure above the forward cargo door is subject to widespread fatigue damage. We are issuing this AD to prevent reduced structural integrity of these airplanes due to the failure of certain structural components.

(f) Compliance

Comply with this AD within the compliance times specified, unless already done.

(g) Check and Rototest Inspection of Affected Fastener and Tooling Holes

Before exceeding 42,500 flight cycles since the first flight of the airplane, do a check of the diameter of the fastener holes and tooling holes and a rototest inspection for cracks of all holes of removed fasteners and the tooling holes at the locations specified in, and in accordance with, the Accomplishment Instructions of Airbus Service Bulletin A300-53-6187, Revision 00, dated May 31, 2016; or Airbus Service Bulletin A310-53-2145, Revision 00, dated May 31, 2016; as applicable.

(h) Repair

If any condition specified in paragraph (h)(1) or (h)(2) of this AD is found, prior to further flight, repair in accordance with a method approved by the Manager, International Section, Transport Standards Branch, FAA; or the European Aviation Safety Agency (EASA); or Airbus's EASA Design Organization Approval (DOA). Concurrently with the repair, unless the approved repair instructions specify otherwise, modify the affected structure, in accordance with the Accomplishment Instructions of Airbus Service Bulletin A300-53-6187, Revision 00, dated May 31, 2016; or Airbus Service Bulletin A310-53-2145, Revision 00, dated May 31, 2016; as applicable.

(1) Any crack is found during the rototest inspection required by paragraph (g) of this AD.

(2) Any hole diameter greater than or equal to the maximum starting hole diameter specified in the Accomplishment Instructions of Airbus Service Bulletin A300-53-6187, Revision 00, dated May 31, 2016; or Airbus Service Bulletin A310-53-2145, Revision 00, dated May 31, 2016; as applicable, is found during the check required by paragraph (g) of this AD.

(i) Modification

If, during the actions required by paragraph (g) of this AD, no crack is found and the hole diameter is less than the maximum starting hole diameter specified in the Accomplishment Instructions of Airbus Service Bulletin A300-53-6187, Revision 00, dated May 31, 2016; or Airbus Service Bulletin A310-53-2145, Revision 00, dated May 31, 2016; as applicable: Before further flight, modify the affected fuselage structure, in accordance with the Accomplishment Instructions of Airbus Service Bulletin A300-53-6187, Revision 00, dated May 31, 2016; or Airbus Service Bulletin A310-53-2145, Revision 00, dated May 31, 2016; as applicable.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) Refer to Mandatory Continuing Airworthiness Information (MCAI) EASA AD 2016-0178, dated September 12, 2016, for related information. This MCAI may be found in the AD docket on the Internet at http://www.regulations.gov by searching for and locating Docket No. FAA-2017-0533.

(2) For more information about this AD, contact Dan Rodina, Aerospace Engineer, International Section, Transport Standards Branch, FAA, 1601 Lind Avenue SW., Renton, WA 98057-3356; telephone 425-227-2125; fax 425-227-1149.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-53-6187, Revision 00, dated May 31, 2016.

(ii) Airbus Service Bulletin A310-53-2145, Revision 00, dated May 31, 2016.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 29, 2017.
Jeffrey E. Duven,
Director, System Oversight Division, Aircraft Certification Service.

[FR Doc. 2017-19043 Filed 9-13-17; 8:45 am]

BILLING CODE 4910-13-P